DEPARTMENT OF EDUCATION

[Catalog of Federal Domestic Assistance (CFDA) Number: 84.421B.]

Applications for New Awards; Rehabilitation Services Administration—Disability Innovation Fund—Transition Work-Based Learning Model Demonstrations; Correction

AGENCY: Office of Special Education and Rehabilitative Services, Department of Education.

ACTION: Notice; correction.

SUMMARY: On August 1, 2016, we published in the Federal Register (81 FR 50485) a notice inviting applications (NIA) for new awards for fiscal year (FY) 2016 for the Rehabilitation Services Administration—Disability Innovation Fund—Transition Work-Based Learning Model Demonstrations. The NIA incorrectly cites “34 CFR part 386,” which implements the Rehabilitation Long-term Training Program, as applicable regulations. Those regulations, do not apply to this NIA. This document corrects the error.

FOR FURTHER INFORMATION CONTACT: Roseann Ashby, U.S. Department of Education, 400 Maryland Avenue SW., Room 5057, Potomac Center Plaza, Washington, DC 20202-5076. Telephone: (202) 245-7258 or by email: Roseann.Ashby@ed.gov.

If you use a telecommunications device for the deaf (TDD) or a text telephone (TTY), call the Federal Relay Service, toll free, at 1-800-877-8339.

SUPPLEMENTARY INFORMATION: This document deletes the reference to 34 CFR 386 under “Applicable Regulations” because these regulations do not apply to this notice. All other requirements and conditions stated in the NIA remain the same.

Corrections

In the Federal Register of August 1, 2016 (81 FR 50485), on page 50487, in the middle column, we revise the section “Applicable Regulations” to read as follows: “Applicable Regulations: (a) The Education Department General Administrative Regulations (EDGAR) in 34 CFR parts 75, 77, 79, 81, 82, 84, 86, 97, 98, and 99. (b) The Office of Management and Budget Guidelines to Agencies on Governmentwide Department and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP for this competition, published elsewhere in this issue of the Federal Register.”

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 1, 2016.
Sue Swenson,
Acting Assistant Secretary for Special Education and Rehabilitative Services.

[FR Doc. 2016-21608 Filed 9-7-16; 8:45 am]

BILLING CODE 4000-01-P